DEPARTMENT OF ENERGY

Federal Energy Regulatory Commission

[Docket No. EC00-106-000, et al.]

Entergy Power Marketing Corp., et al.; Electric Rate and Corporate Regulation Filings

September 28, 2000.

Take notice that the following filings have been made with the Commission:

1. Entergy Power Marketing Corp. and Koch Energy Trading, Inc.

[Docket No. EC00-106-000]

Take notice that on September 26, 2000, Entergy power Marketing Corp. (EPMC) and Koch Energy Trading, Inc. (KET) (Collectively, Applicants) filed a response to a letter dated September 14, 2000 from Commission staff (Staff) requesting additional information and an amended competitive analysis for Applicants' pending application under Section 203 of the Federal Power Act, 16 U.S.C. 824d (1994).

Comment date: October 11, 2000, in accordance with Standard Paragraph E at the end of this notice.

2. Connecticut Yankee Atomic Power Company

[Docket No. ER97-913-003]

Take notice that on September 25, 2000 , Connecticut Yankee Atomic Power Company filed an Informational Filing regarding the consolidation of its pre-1983 Spent Fuel Trust and its Decommissioning Trust . The Informational Filing was made in compliance with the Offer of Settlement dated April 7, 2000, as supplemented April 27, 2000, which was approved by the Commission's Letter Order dated July 26, 2000.

Comment date: October 16, 2000, in accordance with Standard Paragraph E at the end of this notice.

3. Baconton Power LLC

[Docket Nos. EC00-143-000 and ER00-2398-001 (not consolidated)]

Take notice that on September 22, 2000, as supplemented on September 26, 2000, Baconton Power LLC (Baconton or the Applicant) submitted for filing an application under section 203 of the Federal Power Act for approval of the indirect transfer of control over Baconton's jurisdictional transmission facilities and paper facilities. At present, SOWEGA Energy Resources, LLC owns an 85 percent interest in Baconton and Tejas Power Generation, LLC (Tejas) owns a 15 percent interest. The Applicant states that the transfer of control will occur as a result of a change in the upstream ownership of Tejas, currently a wholly-owned indirect subsidiary of Shell Oil Company, to InterGen N.V., a to-be-formed company to be indirectly owned 68 percent by the Royal Dutch Petroleum Company and The “Shell” Transport and Trading Company, p.l.c., and 32 percent by Bechtel Enterprises Holdings, Inc. Baconton also submitted in the September 22 filing a notice of change of status with respect to its market-based rate tariff authority granted in Docket No. ER00-2398-000. On September 26, 2000, Baconton supplemented its filing in EC00-143-000 to provide materials in fulfillment of the Exhibit H filing requirements found in the Commission's regulations at 18 CFR 33.3. Baconton requests privileged treatment for the Exhibit H materials filed in the September 26 supplement, as provided for under 18 CFR 388.112 of the Commission's regulations.

Comment date: October 17, 2000, in accordance with Standard Paragraph E at the end of this notice.

4. New York State Electric & Gas Corporation

[Docket No. ER97-2353-005]

Take notice that on September 18, 2000, New York State Electric & Gas Corporation (NYSEG) tendered for filing with the Federal Energy Regulatory Commission (Commission) a refund report.

Comment date: October 10, 2000, in accordance with Standard Paragraph E at the end of this notice.

5. Union Electric Company, d/b/a/ Ameren UE, and Ameren Energy, Inc. on behalf of AmerenUE

[Docket No. ER00-2687-001]

Take notice that on September 25, 2000, Ameren Energy, Inc., on behalf of AmerenUE, tendered for filing an updated market analysis in connection with its market-based rate authority.

Comment date: October 16, 2000, in accordance with Standard Paragraph E at the end of this notice.

6. EnergyUSA-TPC Corporation

[Docket No. ER00-3219-001]

Take notice that on September 25, 2000, EnergyUSA-TPC Corporation (EnergyUSA), an indirect wholly owned subsidiary of NiSource, Inc., tendered for filing its FERC Electric Rate Schedule 1 and a Statement of Policy and Code of Conduct.

EnergyUSA seeks an effective date of September 18, 2000 for the tariff sheets submitted with this filing.

EnergyUSA states that this filing is being made to comply with the Commission's August 24, 2000, order in this docket. In particular, the filing contains appropriate tariff sheet designations.

Comment date: October 16, 2000, in accordance with Standard Paragraph E at the end of this notice.

7. Arizona Public Service Company

[Docket No. ER00-3283-001]

Take notice that on September 25, 2000, Arizona Public Service Company (APS) tendered for filing a revised rate schedule, APS-FERC Rate Schedule No. 225 in compliance with FERC Order in this docket issued September 20, 2000.

A copy of this filing has been served on the Arizona Corporation Commission and Citizens Utilities Company.

Comment date: October 16, 2000, in accordance with Standard Paragraph E at the end of this notice.

8. Virginia Electric and Power Company

[Docket No. ER00-3743-000]

Take notice that on September 25, 2000, Virginia Electric and Power Company (Virginia Power or the Company) tendered for filing a Network Integration Transmission Service and Network Operating Agreement (Service Agreement) by Virginia Electric and Power Company to Dominion Energy Direct Sales, Inc. designated as Service Agreement No. 302 under the Company's Retail Access Pilot Program, pursuant to Attachment L of the Company's Open Access Transmission Tariff, FERC Electric Tariff, Second Revised Volume No. 5, to Eligible Purchasers effective June 7, 2000.

Virginia Power requests an effective date of September 25, 2000, the date of filing of the Service Agreement.

Comment date: October 16, 2000, in accordance with Standard Paragraph E at the end of this notice.

9. Duquesne Light Company

[Docket No. ER00-3744-000]

Take notice that on September 25, 2000, Duquesne Light Company (DLC) filed a Service Agreement for Retail Network Integration Transmission Service and a Network Operating Agreement for Retail Network Integration Transmission Service dated September 22, 2000, The New Power Company under DLC's Open Access Transmission Tariff (Tariff). The Service Agreement and Network Operating Agreement adds The New Power Company as a customer under the Tariff.

DLC requests an September 22, 2000 of September 22, 2000 for the Service Agreement.

Comment date: October 16, 2000, in accordance with Standard Paragraph E at the end of this notice.

10. Sierra Pacific Power Company

[Docket No. ER00-3745-000]

Take notice that on September 25, 2000, Sierra Pacific Power Company (Sierra) tendered for filing executed Service Agreements (Agreements) with Pacificorp Power Marketing for Non-Firm and Short-Term Firm Transmission Service under Sierra Pacific Resources Operating Companies, FERC Electric Tariff, Original Volume No. 1, Open Access Transmission Tariff (Tariff).

Sierra filed the executed Agreements with the Commission in compliance with Section 13.4 and 14.4 of the Tariff and applicable Commission regulations. Sierra also submitted Original Sheet Nos. 173 and 173A (Attachment E) to the Tariff, which is an updated list of all current subscribers.

Sierra requests waiver of the Commission's notice requirements to permit and effective date of September 26, 2000 for Attachment E, and to allow the Agreements to become effective according to their terms.

Copies of this filing were served upon the Public Utilities Commission of Nevada, the Public Utilities Commission of California and all interested parties.

Comment date: October 16, 2000, in accordance with Standard Paragraph E at the end of this notice.

11. Dominion Nuclear Marketing III, L.L.C.

[Docket No. ER00-3746-000]

Take notice that on September 25, 2000, Dominion Nuclear Marketing III, L.L.C. tendered for filing its proposed FERC Electric Market-Based Sales Tariff and requested certain waivers of the Commission's regulations.

Comment date: October 16, 2000, in accordance with Standard Paragraph E at the end of this notice.

12. Mid-Continent Area Power Pool

[Docket No. ER00-3747-000]

Take notice that on September 25, 2000, the Mid-Continent Area Power Pool (MAPP), on behalf of its members that are subject to Commission jurisdiction as public utilities under Section 201(e) of the Federal Power Act, filed an amendment to Schedule R of the Restated Agreement that would extend provision of the redispatch service from October 31, 2000 to October 31, 2001.

Comment date: October 16, 2000, in accordance with Standard Paragraph E at the end of this notice.

13. South Carolina Electric & Gas Company

[Docket No. ER00-3748-000]

Take notice that on September 25, 2000, South Carolina Electric & Gas Company (SCE&G) submitted a service agreement establishing Sempra Energy Trading Corp. as a customer under the terms of SCE&G's Negotiated Market Sales Tariff.

Copies of this filing were served upon Sempra Energy Trading Corp. and the South Carolina Public Service Commission.

Comment date: October 16, 2000, in accordance with Standard Paragraph E at the end of this notice.

14. Boston Edison Company

[Docket No. ER00-3749-000]

Take notice that on September 25, 2000, Boston Edison Company (Boston Edison) tendered for filing a Standstill Agreement between itself and New England Power Company (NEP) as successor-in-interest to Montaup Electric Company (Montaup). The Standstill Agreement extends through December 4, 2000 the time in which NEP may institute a legal challenge to the 1998 true-up bill under Boston Edison's FERC Rate Schedule No. 69, governing sales to Montaup from the Pilgrim Nuclear Station.

Boston Edison requests waiver of the Commission's notice requirement to allow the Standstill Agreement to become effective September 26, 2000.

Comment date: October 16, 2000, in accordance with Standard Paragraph E at the end of this notice.

15. California Independent System Operator Corporation

[Docket No. ER00-3750-000]

Take notice that on September 25, 2000, the California Independent System Operator Corporation tendered for filing a Scheduling Coordinator Agreement between the ISO and Enron Energy Services, Inc. for acceptance by the Commission.

The ISO is requesting waiver of the 60-day notice requirement to allow the Scheduling Coordinator Agreement to be made effective as of September 15, 2000.

The ISO states that this filing has been served on Enron Energy Services, Inc. and the California Public Utilities Commission.

Comment date: October 16, 2000, in accordance with Standard Paragraph E at the end of this notice.

16. ANP Funding I, L.L.C.

[Docket No. ER00-3751-000]

Take notice that on September 25, 2000 ANP Funding I, L.L.C. tendered for filing pursuant to Rules 205 and 207 of the Commission's Rules of Practice and Procedure (18 CFR 385.205 and 385.207) a petition seeking waivers and blanket approvals under various regulations of the Commission, and an order accepting its FERC Electric Rate Schedule No. 1 for filing, to be effective on the date of the Commission's order on such petition.

FERC Electric Rate Schedule No. 1 provides for the sale of energy and capacity at agreed prices.

Comment date: October 16, 2000, in accordance with Standard Paragraph E at the end of this notice.

17. Arizona Public Service Company, El Paso Electric Company, Public Service Company of New Mexico, and Southern California Edison Company

[Docket No. ER00-3752-000]

Take notice that on September 25, 2000, Arizona Public Service Company, El Paso Electric Company, Public Service Company of New Mexico, and Southern California Edison Company tendered for filing a Funding Agreement for the Development of a Satellite Switchyard to the ANPP High Voltage Switchyard Between Participating Interconnectors and Salt River Project Agricultural Improvement and Power District.

Comment date: October 16, 2000, in accordance with Standard Paragraph E at the end of this notice.

18. Chicago Housing Authority

[Docket No. TX98-1-000]

Take notice that on September 5, 2000, Chicago Housing Authority filed a Notice of Withdrawal of its application filed in the above-mentioned proceeding on November 14, 1997.

Comment date: October 19, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-25506 Filed 10-4-00; 8:45 am]

BILLING CODE 6717-01-P